DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of intent to evaluate and notice of availability of final findings.

SUMMARY: The NOAA Office of Ocean and Coastal Resource Management (OCRM) announces its intent to evaluate the performance of the Rhode Island Coastal Management Program, the Chesapeake Bay-Maryland National Estuarine Research Reserve, the Delaware Coastal Management Program and Delaware National Estuarine Research Reserve, and the Georgia Coastal Management Program.

The Coastal Zone Management Program evaluations will be conducted pursuant to section 312 of the Coastal Zone Management Act of 1972, as amended (CZMA) and regulations at 15 CFR part 923, subpart L. The National Estuarine Research Reserve evaluations will be conducted pursuant to sections 312 and 315 of the CZMA and regulations at 15 CFR part 921, subpart E and part 923, subpart L. The CZMA requires continuing review of the performance of states with respect to coastal program implementation. Evaluation of Coastal Management Programs and National Estuarine Research Reserves requires findings concerning the extent to which a state has met the national objectives, adhered to its Coastal Management Program document or Reserve final management plan approved by the Secretary of Commerce, and adhered to the terms of financial assistance awards funded under the CZMA.

Each evaluation will include a site visit, consideration of public comments, and consultations with interested Federal, state, and local agencies and members of the public. A public meeting will be held as part of the site visit.

Notice is hereby given of the dates of the site visits for the listed evaluations, and the dates, local times, and locations of the public meeting during the site visits.

The Rhode Island Coastal Management Program evaluation site visit will be held November 14-18, 2005. One public meeting will be held during the week. The public meeting will be held on Tuesday, November 15, 2005, at 7:30 p.m. at the Narragansett Bay Commission Board Room, One Service Road, Providence, Rhode Island.

The Chesapeake Bay-Maryland National Estuarine Research Reserve evaluation site visit will be held November 14-16, 2005. One public meeting will be held during the week. The public meeting will be held on Monday, November 14, 2005, at 7 p.m. at the Jug Bay Sanctuary, 1361 Wrighton Road, Lothian, Maryland.

The Delaware Coastal Management Program and Delaware National Estuarine Research Reserve joint evaluation site visit will be held December 5-9, 2005. One public meeting will be held during the week. The joint public meeting will be held on Wednesday, December 7, 2005, at 6 p.m. at 818 Kitts Hummock Road, Dover, Delaware.

The Georgia Coastal Management Program evaluation site visit will be held December 12-16, 2005. One public meeting will be held during the week. The public meeting will be held on Tuesday, December 13, 2005, at 1 p.m. at the Coastal Electric Membership Cooperative, 1265 South Coastal Highway (U.S. 17), Midway, Georgia.

Copies of states' most recent performance reports, as well as OCRM's evaluation notification and supplemental information request letters to the states, are available upon request from OCRM. Written comments from interested parties regarding these Programs are encouraged and will be accepted until 15 days after the public meeting held for a Program. Please direct written comments to Ralph Cantral, Chief, National Policy and Evaluation Division, Office of Ocean and Coastal Resource Management, NOS/NOAA, 1305 East-West Highway, 10th Floor, N/ORM7, Silver Spring, Maryland 20910. When the evaluations are completed, OCRM will place a notice in the Federal Register announcing the availability of the Final Evaluation Findings.

Notice is hereby given of the availability of the final evaluation findings for the Florida, Mississippi, and Washington Coastal Management Programs (CMPs); and the Padilla Bay (Washington) and North Carolina National Estuarine Research Reserves (NERRs). Sections 312 and 315 of the Coastal Zone Management Act of 1972 (CZMA), as amended, require a continuing review of the performance of coastal states with respect to approval of CMPs and the operation and management of NERRs.

The states of Florida, Mississippi, and Washington were found to be implementing and enforcing their federally approved coastal management programs, addressing the national coastal management objectives identified in CZMA Section 303(2)(A)-(K), and adhering to the programmatic terms of their financial assistance awards. Padilla Bay (Washington) and North Carolina NERRs were found to be adhering to programmatic requirements of the NERR System.

Copies of these final evaluation findings may be obtained upon written request from: Ralph Cantral, Chief, National Policy and Evaluation Division, Office of Ocean and Coastal Resource Management, NOS/NOAA, 1305 East-West Highway, 10th Floor, N/ORM7, Silver Spring, Maryland 20910, or Ralph.Cantral@noaa.gov.

FOR FURTHER INFORMATION CONTACT: Ralph Cantral, Chief, National Policy and Evaluation Division, Office of Ocean and Coastal Resource Management, NOS/NOAA, 1305 East-West Highway, 10th Floor, N/ORM7, Silver Spring, Maryland 20910, (301) 563-7118.

(Federal Domestic Assistance Catalog 11.419, Coastal Zone Management Program Administration)
Dated: September 19, 2005.
Eldon Hout,
Director, Office of Ocean and Coastal Resource Management.

[FR Doc. 05-19296 Filed 9-27-05; 8:45 am]

BILLING CODE 3510-08-P